ENVIRONMENTAL PROTECTION AGENCY

[FRL-8174-8]

EPA Science Advisory Board Staff Office; Request for Nominations of Candidates for a Panel To Review EPA's Draft Technical Document for the Report on the Environment 2007

AGENCY: Environmental Protection Agency (EPA).

ACTION: Notice.

SUMMARY: The U.S. Environmental Protection Agency (EPA or Agency) Science Advisory Board (SAB or the Board) Staff Office is soliciting nominations of nationally recognized scientists for consideration of membership on an SAB Panel to review the Draft Technical Document for EPA's Report on the Environment 2007.

DATES: Nominations should be submitted by June 15, 2006 per the instructions below.

FOR FURTHER INFORMATION CONTACT: For information regarding this Request for Nominations, please contact Dr. Thomas Armitage, Designated Federal Officer (DFO), EPA Science Advisory Board Staff, at armitage.thomas@epa.gov or (202) 343-9995. General information concerning the SAB can be found on the EPA Web site at: http://www.epa.gov/sab. For information on the Draft Technical Document for EPA's Report on the Environment, please contact Dr. Denice Shaw in the EPA Office of Research and Development at: shaw.denice@epa.gov or (202) 564-3234.

SUPPLEMENTARY INFORMATION: Background: EPA issued a draft Report on the Environment 2003 describing the status of and trends in the environment and human health. This report was reviewed by the SAB (see http://www.epa.gov/sab/pdf/sab_05_004.pdf ). EPA has now prepared a new draft Report on the Environment Technical Document 2007 (ROE 2007) that addresses previous SAB recommendations. EPA(s Office of Research and Development (ORD) has requested that the SAB review the latest draft of the ROE 2007. This draft Report on the Environment Technical Document updates information to answer key questions concerning the status of and trends in the environment and human health and contains new indicators as previously suggested by the SAB. National and some regional environmental trends are described along with indicator limitations and gaps. The SAB has been asked to: (1) Assess the adequacy of the approaches, processes, or frameworks used in the ROE 2007 to answer specified questions; (2) assess the adequacy of the technical content of the indicators provided in major theme areas in the ROE 2007 with regard to completeness of the technical data used and the relevance of indicators to the areas of concern; and (3) evaluate the appropriateness of the conclusions in the ROE 2007. This notice specifically requests nominations for candidates to serve on a new SAB panel that will critically review ROE 2007.

The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. C) and related regulations. Generally, SAB meetings are announced in the Federal Register, conducted in public view, and provide opportunities for public input during deliberations. Additional information about the SAB and its committees can be obtained on the SAB Web site at: http://www.epa.gov/sab.

Expertise Sought: The SAB Staff Office requests nominations of engineers, ecologists, public health and biomedical scientists, and chemical and physical scientists to be considered for appointment to the expert panel described above. The Staff Office is interested in nominees who are nationally recognized experts with experience and expertise in designing, implementing, and applying indicator information and data at regional and national scales to evaluate the condition of air, water, and land environments, human health, and ecological condition as covered in ROE 2007. These include: (1) Air (e.g., outdoor or indoor air quality, greenhouse gases, etc.); (2) water (e.g., water and watersheds, drinking water, recreation in and on water, consumption of fish and shellfish, etc.); (3) land (e.g., land use, land cover, chemicals in the landscape, waste contaminated lands, etc.); (4) human health (e.g., pollution and disease, health and disease status and trends, epidemiology, exposure to environmental pollution, etc.); and (5) ecological condition (e.g., stressors and outcomes for aquatic, terrestrial, near-coastal, coastal, and ocean systems, etc.).

How to Submit Nominations: Any interested person or organization may nominate qualified individuals to be considered for appointment on this SAB Panel. Candidates may also nominate themselves. Nominations should be submitted in electronic format (which is preferred over hard copy) through the Form for Nominating Individuals to Panels of the EPA Science Advisory Board provided on the SAB Web site. The form can be accessed through the SAB Nomination Form link on the blue navigational bar on the SAB Web site at: http://www.epa.gov/sab. To receive full consideration, nominations should include all of the information requested on that form.

The nominating form requests contact information about: The person making the nomination; contact information about the nominee; the disciplinary and specific areas of expertise of the nominee; the nominee's curriculum vita; sources of recent grant and/or contract support; and a biographical sketch of the nominee indicating current position; educational background; research activities; and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the panel for which they have been nominated. From the nominees identified by respondents to this Federal Register notice (termed the Widecast) and other sources, the SAB Staff Office will develop a smaller subset (known as the Short List for more detailed consideration. The Short List will be posted on the SAB Web site at: http://www.epa.gov/sab, and will include, for each candidate, the nominee's name and biosketch. Public comments on the Short List will be accepted for 21 calendar days. During this comment period, the public will be requested to provide information, analysis or other documentation on nominees that the SAB Staff Office should consider in evaluating candidates for the Panels.

For the SAB, a balanced panel is characterized by inclusion of candidates who possess the necessary domains of knowledge, the relevant scientific perspectives (which, among other factors, can be influenced by work history and affiliation), and the collective breadth of experience to adequately address the charge. Public responses to the Short List candidates will be considered in the selection of the panels, along with information provided by candidates and information gathered by SAB Staff independently of the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fill-out the Confidential Financial Disclosure Form for Special Government Employees Serving on Federal Advisory Committees at the U.S. Environmental Protection Agency (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: May 18, 2006.
Anthony F. Maciorowski,
Associate Director for Science, EPA Science Advisory Board Staff Office.

[FR Doc. E6-8043 Filed 5-24-06; 8:45 am]

BILLING CODE 6560-50-P